DEPARTMENT OF AGRICULTURE

Forest Service

Eastern Washington Cascades Provincial Advisory Committee and the Yakima Provincial Advisory Committee

AGENCY: Forest Service, USDA.

ACTION: Notice of meeting.

SUMMARY: The Eastern Washington Cascades Provincial Advisory Committee and the Yakima Provincial Advisory Committee will meet on October 19, 2011, from 9 a.m. to 3 p.m. at the Okanogan-Wenatchee National Forest Headquarters Office, 215 Melody Lane, Wenatchee, WA and also on November 9, 2011, from 9 a.m. to 3 p.m. at Washington State Park office, 270 9th Street, NE., East Wenatchee, WA. During these meetings information will be shared about Access Travel Management. All Eastern Washington Cascades and Yakima Province Advisory Committee meetings are open to the public.

FOR FURTHER INFORMATION CONTACT: Direct questions regarding this meeting to Clint Kyhl, Designated Federal Official, USDA, Okanogan-Wenatchee National Forest, 215 Melody Lane, Wenatchee, Washington 98801, phone 509-664-9200.

Dated: September 27, 2011.
Clinton Kyhl,
Designated Federal Official, Okanogan-Wenatchee National Forest.

[FR Doc. 2011-25671 Filed 10-4-11; 8:45 am]

BILLING CODE 3410-11-P